DEPARTMENT OF ENERGY

Federal Energy Regulatory Commission

[Docket No. AD20-16-000]

Shortening Comment Period for Federal Power Act Section 204 Filings; Notice Shortening Comment Period

On March 13, 2020, the President issued a proclamation declaring a National Emergency due to the COVID-19 pandemic. Entities regulated by the Commission have had to take unprecedented actions in response to the emergency conditions, including directing staff to work remotely for an extended period, which may disrupt, complicate, or otherwise change their normal course of business operations.

To expedite the Commission's review of filings that may be necessary to ensure regulated entities' liquidity in the face of the COVID-19 pandemic, the period for filing interventions and protests to filings submitted pursuant to the Federal Power Act, section 204, 16 U.S.C. 824c (2018), is hereby shortened from 21 days to 5 business days.¹ This shortened comment period will be in effect up to and including September 1, 2020.

¹ The Office of the Secretary will indicate such shortened comment periods in the notices it issues to process those filings.

Dated: May 5, 2020.
Kimberly D. Bose,
Secretary.

[FR Doc. 2020-09997 Filed 5-8-20; 8:45 am]

BILLING CODE 6717-01-P